DEPARTMENT OF TRANSPORTATION

ITS Joint Program Office; Vehicle to Infrastructure Core System Concept of Operations; Notice of Public Meeting

AGENCY: Research and Innovative Technology Administration, U.S. Department of Transportation.

ACTION: Notice.

The U.S. Department of Transportation ITS Joint Program Office (ITS JPO) will host a free public meeting to discuss the Vehicle to Infrastructure (V2I) Core System Concept of Operations on May 17, 2011 at the Detroit Metro Airport Marriott, 30559 Flynn Drive, Romulus, Michigan 48174 (734.729.7555). The conference is for interested parties to learn about the Core System ConOps, including the system boundaries, high-level functions, modes of operation, system needs, and operational scenarios. Feedback obtained during the meeting will be considered for the ongoing project. To learn more about the ITS JPO, visit the program's Web site at http://www.its.dot.gov.

The V2I Core System will support applications for safety, mobility, and sustainability for various modes of transportation including passenger vehicles, transit, and heavy trucks. This is the successor to work originally performed under the Vehicle Infrastructure Integration Proof of Concept (VII POC). The Core System supports a distributed, diverse set of applications.

Interested parties planning to attend the public meeting should send their full name, organization and business e-mail address to Adam Hoops at ITS America at Ahoops@ITSA.org by May 13, 2011. For additional questions, please contact Adam Hoops at 202.680.0091.

Issued in Washington, DC, on the 12th day of April 2011.
John Augustine,
Managing Director, ITS Joint Program Office.

[FR Doc. 2011-9266 Filed 4-15-11; 8:45 am]

BILLING CODE 4910-HY-P